DEPARTMENT OF HOMELAND SECURITY

Transportation Security Administration

[Docket Nos. TSA-2006-24191; Coast Guard-2006-24196]

Transportation Worker Identification Credential (TWIC); Enrollment Dates for the Ports of Marine City, MI; St. Ignace, MI; Palm Beach, FL; and St. Louis, MO

AGENCY: Transportation Security Administration; United States Coast Guard; DHS.

ACTION: Notice.

SUMMARY: The Department of Homeland Security (DHS) through the Transportation Security Administration (TSA) issues this notice of the dates for the beginning of the initial enrollment for the Transportation Worker Identification Credential (TWIC) for the Ports of Marine City, MI; St. Ignace, MI; Palm Beach, FL; and St. Louis, MO.

DATES: TWIC enrollment begins in Marine City and St. Louis on March 5, 2008; and St. Ignace and Palm Beach on March 6, 2008.

ADDRESSES: You may view published documents and comments concerning the TWIC Final Rule, identified by the docket numbers of this notice, using any one of the following methods.

(1) Searching the Federal Docket Management System (FDMS) Web page at www.regulations.gov;

(2) Accessing the Government Printing Office's Web page at http://www.gpoaccess.gov/fr/index.html; or

(3) Visiting TSA's Security Regulations Web page at http://www.tsa.gov and accessing the link for “Research Center” at the top of the page.

FOR FURTHER INFORMATION CONTACT: James Orgill, TSA-19, Transportation Security Administration, 601 South 12th Street, Arlington, VA 22202-4220. Transportation Threat Assessment and Credentialing (TTAC), TWIC Program, (571) 227-4545; e-mail: credentialing@dhs.gov.

Background

The Department of Homeland Security (DHS), through the United States Coast Guard and the Transportation Security Administration (TSA), issued a joint final rule (72 FR 3492; January 25, 2007) pursuant to the Maritime Transportation Security Act (MTSA), Pub. L. 107-295, 116 Stat. 2064 (November 25, 2002), and the Security and Accountability for Every Port Act of 2006 (SAFE Port Act), Pub. L. 109-347 (October 13, 2006). This rule requires all credentialed merchant mariners and individuals with unescorted access to secure areas of a regulated facility or vessel to obtain a TWIC. In this final rule, on page 3510, TSA and Coast Guard stated that a phased enrollment approach based upon risk assessment and cost/benefit would be used to implement the program nationwide, and that TSA would publish a notice in the Federal Register indicating when enrollment at a specific location will begin and when it is expected to terminate.

This notice provides the start date for TWIC initial enrollment at the Ports of Marine City, MI; St. Ignace MI; Palm Beach, FL; and St. Louis, MO. Enrollment will begin in Marine City and St. Louis on March 5, 2008; and St. Ignace and Palm Beach on March 6, 2008. The Coast Guard will publish a separate notice in the Federal Register indicating when facilities within the Captain of the Port Zone Detroit, including those in the Port of Marine City; Captain of the Port Zone Upper Mississippi River, including those in the Port of St. Louis; Captain of the Port Zone Sault Ste. Marie, including those in the Port of St. Ignace; and Captain of the Port Zone Miami, including those in the Port of Palm Beach must comply with the portions of the final rule requiring TWIC to be used as an access control measure. That notice will be published at least 90 days before compliance is required.

To obtain information on the pre-enrollment and enrollment process, and enrollment locations, visit TSA's TWIC Web site at http://www.tsa.gov/twic.

Issued in Arlington, Virginia, on February 20, 2008.
Rex Lovelady,
Program Manager, TWIC, Office of Transportation Threat Assessment and Credentialing, Transportation Security Administration.

[FR Doc. E8-3527 Filed 2-22-08; 8:45 am]

BILLING CODE 9110-05-P